DEPARTMENT OF TRANSPORTATION

Federal Aviation Administration

14 CFR Part 39

[Docket No. FAA-2014-0484; Directorate Identifier 2013-NM-245-AD]

RIN 2120-AA64

Airworthiness Directives; Airbus Airplanes

AGENCY: Federal Aviation Administration (FAA), DOT.

ACTION: Notice of proposed rulemaking (NPRM).

SUMMARY: We propose to supersede Airworthiness Directive (AD) 2012-09-07, for certain Airbus Model A319-111, -112, and -132 airplanes; Model A320-111, -211, -212, -214 and -232 airplanes; and Model A321-111, -211, -212, and -231 airplanes. AD 2012-09-07 currently requires performing an electrical bonding test between the gravity fill re-fuel adaptor and the top skin panels on the left-hand and right-hand wings, and if necessary performing a general visual inspection for corrosion of the component interface and adjacent area, and repairing the gravity fuel adaptor if any corrosion is found. Since we issued AD 2012-09-07, we have determined that more airplanes are subject to the identified unsafe condition due to the installation of an incorrect repair intended to address the identified unsafe condition. This proposed AD would add airplanes to the applicability in AD 2012-09-07, and would require inspecting those airplanes to determine if a repair was done, and doing the electrical bonding test and corrective action if necessary. We are proposing this AD to detect and correct corrosion and improper bonding, which, in combination with a lightning strike in this area, could create a source of ignition in a fuel tank, resulting in a fire or explosion, and consequent loss of the airplane.

DATES: We must receive comments on this proposed AD by September 15, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0484; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2014-0484; Directorate Identifier 2013-NM-245-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On April 30, 2012, we issued AD 2012-09-07, Amendment 39-17042 (77 FR 28238, May 14, 2012). AD 2012-09-07 requires actions intended to address an unsafe condition on certain Airbus Model A319-111, -112, and -132 airplanes; Model A320-111, -211, -212, -214 and -232 airplanes; and Model A321-111, -211, -212, and -231 airplanes.

Since we issued AD 2012-09-07, Amendment 39-17042 (77 FR 28238, May 14, 2012), the European Aviation Safety Agency (EASA), which is the Technical Agent for the Member States of the European Community, has issued EASA Airworthiness Directive 2013-0277R1, dated December 4, 2013 (referred to after this as the Mandatory Continuing Airworthiness Information, or “the MCAI”), to correct an unsafe condition for Airbus Model A318-111, -112, -121, and -122 airplanes; A319-111, -112, -113, -114, -115, -131, -132, and -133 airplanes; A320-111, -211, -212, -214, -231, -232, and -233 airplanes; and A321-111, -112, -131, -211, -212, -213, -231, and -232 airplanes. The MCAI states:

Cases of corrosion findings were reported on the overwing refueling aperture (used to fill the fuel tank by gravity) on the wing top skin. The reported corrosion was on the mating surface of the aperture flange, underneath the refuel adaptor. Corrosion findings have been repaired on a case by case basis in accordance with approved data.

For certain aeroplanes, the repair provided by Airbus contained instructions to apply primer coating on the mating surface. Since doing those repairs, it has been found that this primer coating may prevent proper electrical bonding provision between the overwing refueling cap adaptor and the wing skin.

This condition, if not detected and corrected, could, in combination with a lightning strike in this area, create a source of ignition in a fuel tank, possibly resulting in a fire or explosion and consequent loss of the aeroplane. To address this potential unsafe condition, EASA issued AD 2011-0034 [http://ad.easa.europa.eu/blob/easa_ad_2011_0034.pdf/AD_2011-0034] to require a one-time electrical bonding check between the gravity fill re-fuel adaptor and the top skin panels on the affected aeroplanes [identified by MSN in the applicability section of that EASA AD] and, in case of findings, the accomplishment of applicable corrective actions.

Since that [EASA] AD was issued, EASA has been made aware that some operators may inadvertently have applied an Airbus repair, approved for only one aeroplane MSN, to other aeroplanes, without requesting a revision of the repair to add aeroplanes, or to notify Airbus of such action(s). Consequently, the condition addressed by EASA AD 2011-0034 could affect more aeroplanes than initially determined.

For the reasons described above, this [EASA] AD retains the requirements of EASA AD 2011-0034, which is superseded, and expands the Applicability to all A320 family aeroplane Models, all MSN.

This [EASA] AD has been revised to amend and clarify paragraph (3) and to correct an error in the Type/Model designations on page 1, where the A318 was inadvertently omitted.

For the newly added airplanes, required actions include inspecting for the presence of a corrosion repair on an overwing refueling aperture, and doing the electrical bonding test and applicable corrective actions if a repair has been installed. You may examine the MCAI in the AD docket on the Internet at http://www.regulations.gov by searching for and locating Docket No. FAA-2014-0484.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

“Contacting the Manufacturer” Paragraph in This Proposed AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In an NPRM having Directorate Identifier 2012-NM-101-AD (78 FR 78285, December 26, 2013), we proposed to prevent the use of repairs that were not specifically developed to correct the unsafe condition, by requiring that the repair approval provided by the State of Design Authority or its delegated agent specifically refer to the FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

One commenter to the NPRM having Directorate Identifier 2012-NM-101-AD (78 FR 78285, December 26, 2013) stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this proposed AD to obtain corrective actions from a manufacturer, the action must be accomplished using a method approved by the FAA, the European Aviation Safety Agency (EASA), or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Costs of Compliance

We estimate that this proposed AD affects 851 airplanes of U.S. registry.

The actions that are required by AD 2012-09-07, Amendment 39-17042 (77 FR 28238, May 14, 2012), and retained in this proposed AD take about 2 work-hours per product, at an average labor rate of $85 per work-hour. Based on these figures, the estimated cost of the actions that are required by AD 2012-09-07 is $170 per product.

We also estimate that it would take about 2 work-hours per product to comply with the basic requirements of this proposed AD. The average labor rate is $85 per work-hour. Required parts would cost about $0 per product. Based on these figures, we estimate the cost of this proposed AD on U.S. operators to be $72,335, or $170 per product.

In addition, we estimate that any necessary follow-on actions would take about 11 work-hours, for a cost of $935 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2012-09-07, Amendment 39-17042 (77 FR 28238, May 14, 2012), and adding the following new AD:

Airbus: Docket No. FAA-2014-0484; Directorate Identifier 2013-NM-245-AD.

(a) Comments Due Date

We must receive comments by September 15, 2014.

(b) Affected ADs

This AD replaces AD 2012-09-07, Amendment 39-17042 (77 FR 28238, May 14, 2012).

(c) Applicability

(1) This AD applies to Airbus Model A318-111, -112, -121, and -122 airplanes; A319-111, -112, -113, -114, -115, -131, -132, and -133 airplanes; A320-111, -211, -212, -214, -231, -232, and -233 airplanes; and A321-111, -112, -131, -211, -212, -213, -231, and -232 airplanes; certificated in any category; all manufacturer serial numbers, except airplanes identified in paragraph (c)(2) of this AD.

(2) Airplanes that have been delivered from production with Airbus Modification 38209 (Removal of the Outer Wing Refueling Aperture) and without Airbus Modification 38206 (Re-introduction of the Outer Wing Refueling Aperture) are not affected by the requirements of this AD.

(d) Subject

Air Transport Association (ATA) of America Code 57, Wings.

(e) Reason

This AD was prompted by more airplanes being affected due to inadvertently installing the repair necessary for addressing the identified unsafe condition. We are issuing this AD to detect and correct corrosion and improper bonding, which in combination with a lightning strike in this area, could create a source of ignition in a fuel tank, resulting in a fire or explosion, and consequent loss of the airplane.

(f) Compliance

Comply with this AD within the compliance times specified, unless already done.

(g) Retained Electrical Bonding Test, and General Visual Inspection if Necessary

This paragraph restates the requirements of paragraph (g) of AD 2012-09-07, Amendment 39-17042 (77 FR 28238, May 14, 2012), with revised repair approval language. For Model A319-111, -112, and -132 airplanes; Model A320-111, -211, -212, -214 and -232 airplanes; and Model A321-111, -211, -212, and -231 airplanes; certificated in any category; having manufacturer serial numbers 0039, 0078, 0109, 0118, 0120, 0153, 0174, 0187, 0203, 0215, 0218, 0226, 0227, 0228, 0236, 0237, 0269, 0270, 0278, 0285, 0286, 0287, 0288, 0294, 0301, 0337, 0377, 0462, 0463, 0464, 0465, 0520, 0523, 0528, 0876, 0888, 0921, 0935, 0974, 1014, 1102, 1130, 1160, 1162, 1177, 1215, 1250, 1287, 1336, 1388, 1404, 1444, 1449, 1476, 1505, 1524, 1564, 1605, 1616, 1622, 1640, 1645, 1658, 1677, 1691, 1729, and 1905: Within 24 months after June 18, 2012 (the effective date of AD 2012-09-07), do an electrical bonding test to check for bonding between the re-fuel adaptor of the gravity fill and the top skin panels on the left-hand and right-hand wings, in accordance with the Accomplishment Instructions of Airbus Service Bulletin A320-57-1152, dated June 14, 2010.

(1) If the resistance value is 10 milliOhms or less at the left-hand and right-hand wing, no further action is required by this paragraph.

(2) If the resistance value is greater than 10 milliOhms at the left-hand or right-hand wing, before further flight, do a general visual inspection for corrosion of the component interface and adjacent area, in accordance with the Accomplishment Instructions of Airbus Service Bulletin A320-57-1152, dated June 14, 2010. If any corrosion is found during the inspection, before further flight, repair the gravity fill fuel adaptor, in accordance with the Accomplishment Instructions of Airbus Service Bulletin A320-57-1152, dated June 14, 2010; except where Airbus Service Bulletin A320-57-1152, dated June 14, 2010, specifies to contact Airbus, before further flight, repair using a method approved by the Manager, International Branch, ANM-116, Transport Airplane Directorate, FAA; or the European Aviation Safety Agency (EASA); or Airbus's EASA Design Organization Approval (DOA). If approved by the DOA, the approval must include the DOA-authorized signature.

(h) New Requirement of This AD: Maintenance Check/Electrical Bonding Test and Corrective Action if Necessary

For airplanes other than those identified in paragraph (g) of this AD: Within 24 months after the effective date of this AD, determine whether a corrosion repair has been done on an overwing refueling aperture, whereby a primer coating has been applied on the mating surface of the aperture flange. A maintenance records check is acceptable to make this determination, provided those records can conclusively determine whether a primer coat was applied.

(1) If it is determined that a primer coating was applied on the mating surface of the aperture flange; or if a determination cannot be made, or the outcome is inconclusive: Within 24 months after the effective date of this AD do the electrical bonding test specified in paragraph (g) of this AD, and before further flight, all applicable actions specified in paragraph (g)(2) of this AD.

(2) If it is determined that a corrosion repair has not been done, and a primer coating has not been applied on the mating surface of the aperture flange since first entry into service, no further action is required by this paragraph.

(i) Corrosion Repair Provision

As of the effective date of this AD, any corrosion repair done on an overwing refueling aperture on any airplane must be compliant with the repair requirements of paragraph (g)(2) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2012-09-07, Amendment 39-17042 (77 FR 28238, May 14, 2012), are approved as AMOCs for the corresponding provisions of this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) EASA Airworthiness Directive 2013-0277R1, dated December 4, 2013, for related information. This MCAI may be found in the AD docket on the Internet at http://www.regulations.gov by searching for and locating Docket No. FAA-2014-0484.

(2) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on July 13, 2014.
Jeffrey E. Duven,
Manager, Transport Airplane Directorate, Aircraft Certification Service.

[FR Doc. 2014-17930 Filed 7-29-14; 8:45 am]

BILLING CODE 4910-13-P